FEDERAL COMMUNICATIONS COMMISSION

47 CFR Part 64

[CC Docket No. 96-115, WC Docket No. 04-36; FCC 07-22]

Customer Proprietary Network Information

AGENCY: Federal Communications Commission.

ACTION: Final rule; announcement of effective date.

SUMMARY: The Commission adopted rules to implement section 222 of the Communications Act of 1934, as amended, which governs carriers' use and disclosure of customer proprietary network information. The rules in §§ 64.2003, 64.2005, 64.2007, 64.2009, 64.2010, and 64.2011 required Office of Management and Budget approval and the Commission stated previously in its Federal Register publication that it would announce the effective date of these rules when approved. This document announces the effective date of these rules.

DATES: The revisions and amendments to 47 CFR 64.2003, 64.2005, 64.2007, and 64.2009, and the addition of 47 CFR 64.2010 and 64.2011, published at 72 FR 31948, June 8, 2007, became effective on December 8, 2007.

FOR FURTHER INFORMATION CONTACT: Melissa Droller Kirkel, (202) 418-7958, Wireline Competition Bureau.

SUPPLEMENTARY INFORMATION: The FCC published a document in the Federal Register, 72 FR 31948, June 8, 2007, that sets forth an effective date of June 8, 2007, except for the revisions and amendments to §§ 64.2003, 64.2005, 64.2007, and 64.2009, and the addition of §§ 64.2010 and 64.2011, which contained information collection requirements that had not been approved by the Office of Management and Budget (OMB). The document stated that the Commission will publish a document in the Federal Register announcing the effective date of these rules. On December 6, 2007, OMB approved the information collection requirements contained in these sections pursuant to OMB Control No. 3060-0715. Accordingly, the information collection requirements contained in these rules became effective on December 8, 2007. The expiration date for the information collection is June 30, 2008.

Federal Communications Commission.
Marlene H. Dortch,
Secretary.

[FR Doc. E7-24105 Filed 12-12-07; 8:45 am]

BILLING CODE 6712-01-P